DEPARTMENT OF HEALTH AND HUMAN SERVICES

Centers for Disease Control and Prevention

[60Day-23-23CU; Docket No. CDC-2023-0012]

Proposed Data Collection Submitted for Public Comment and Recommendations

AGENCY: Centers for Disease Control and Prevention (CDC), Department of Health and Human Services (HHS).

ACTION: Notice with comment period.

SUMMARY: The Centers for Disease Control and Prevention (CDC), as part of its continuing effort to reduce public burden and maximize the utility of government information, invites the general public and other federal agencies the opportunity to comment on a proposed information collection, as required by the Paperwork Reduction Act of 1995. This notice invites comment on a proposed information collection project titled, Advancing Violence Epidemiology in Real-Time (AVERT). This data collection will help improve state and local jurisdictions' ability to identify, respond to, and prevent violence.

DATES: CDC must receive written comments on or before May 23, 2023.

ADDRESSES: You may submit comments, identified by Docket No. CDC-2023-0012 by either of the following methods:

• Federal eRulemaking Portal: www.regulations.gov. Follow the instructions for submitting comments.

• Mail: Jeffrey M. Zirger, Information Collection Review Office, Centers for Disease Control and Prevention, 1600 Clifton Road NE, MS H21-8, Atlanta, Georgia 30329.

Instructions: All submissions received must include the agency name and Docket Number. CDC will post, without change, all relevant comments to www.regulations.gov.

Please note: Submit all comments through the Federal eRulemaking portal (www.regulations.gov) or by U.S. mail to the address listed above.

FOR FURTHER INFORMATION CONTACT: To request more information on the proposed project or to obtain a copy of the information collection plan and instruments, contact Jeffrey M. Zirger, Information Collection Review Office, Centers for Disease Control and Prevention, 1600 Clifton Road NE, MS H21-8, Atlanta, Georgia 30329; Telephone: 404-639-7570; Email: omb@cdc.gov.

SUPPLEMENTARY INFORMATION: Under the Paperwork Reduction Act of 1995 (PRA) (44 U.S.C. 3501-3520), federal agencies must obtain approval from the Office of Management and Budget (OMB) for each collection of information they conduct or sponsor. In addition, the PRA also requires federal agencies to provide a 60-day notice in the Federal Register concerning each proposed collection of information, including each new proposed collection, each proposed extension of existing collection of information, and each reinstatement of previously approved information collection before submitting the collection to the OMB for approval. To comply with this requirement, we are publishing this notice of a proposed data collection as described below.

The OMB is particularly interested in comments that will help:

1. Evaluate whether the proposed collection of information is necessary for the proper performance of the functions of the agency, including whether the information will have practical utility;

2. Evaluate the accuracy of the agency's estimate of the burden of the proposed collection of information, including the validity of the methodology and assumptions used;

3. Enhance the quality, utility, and clarity of the information to be collected;

4. Minimize the burden of the collection of information on those who are to respond, including through the use of appropriate automated, electronic, mechanical, or other technological collection techniques or other forms of information technology, e.g., permitting electronic submissions of responses; and

5. Assess information collection costs.

Proposed Project

Advancing Violence Epidemiology in Real-Time (AVERT)—NEW—National Center for Injury Prevention and Control (NCIPC), Centers for Disease Control and Prevention (CDC).

Background and Brief Description

Firearm deaths and injuries are a serious public health problem in the United States. In 2021, more than 47,000 people died because of a firearm-related injury, according to provisional mortality data from the CDC's National Vital Statistics System. Many more people suffer nonfatal firearm-related injuries, and some areas and populations are disproportionately affected by firearm injuries. In an analysis of Emergency Department (ED) visits from 10 U.S. jurisdictions, the proportion of ED visits for firearm injuries were higher in communities that experienced more poverty, unemployment, lower incomes, and lower educational attainment. People hospitalized with nonfatal gunshot wounds often experience long-term consequences, including physical disabilities and chronic mental health problems from conditions such as post-traumatic-stress disorder. The economic impact of firearm injury and mortality is also substantial, costing the U.S. billions of dollars each year in medical and lost productivity costs alone, according to CDC's Web-based Injury Statistics Query and Reporting System (WISQARS) Cost of Injury module. An understanding of the full extent of the problem is crucial to informing prevention and response strategies and reducing future incidents.

Timely state- and local-level data on ED visits for firearm injuries are currently limited. More context on ED visits for firearm injuries (regardless of intent), other violence-related injuries, and mental health conditions (which may increase risk for, or be a negative outcome associated with firearm injuries and other violence-related injuries) is also needed. The collection of near real-time data on ED visits for these outcomes of interest at the state- and local-level could improve state and local jurisdictions' ability to identify, respond to, and prevent violence. These data can also be used to identify, track, and address disparities in ED visits for firearm injuries, violence-related injuries, and mental health conditions.

The AVERT data collection integrates, expands, and enhances previous data sharing efforts with public health departments initiated under the Firearm Injury Surveillance Through Emergency Rooms (FASTER) program, which provided funding for 10 jurisdictions to share firearm injury-related ED visit data with CDC. The goal of AVERT is to build on the FASTER program and provide funding to a minimum of 10 jurisdictions to share timely ED data for all firearm injuries (regardless of intent), other violence-related injuries, and mental health conditions. AVERT is made possible because the vast majority of the participating health departments are already rapidly collecting extensive data on ED visits in their jurisdiction and using these data for the identification of public health concerns, including flu, heat-related illness, and disaster-related health issues. AVERT will support states to conduct routine monitoring of these data to identify ED visits related to firearm injuries (regardless of intent), other violence-related injuries, and mental health conditions, in addition to analyze these data in a timely manner and share these data with CDC. The AVERT program will ensure participating jurisdictions use their data to track all firearm injuries, other violence-related injuries, and mental health conditions by providing participating jurisdictions standardized definitions, which can facilitate rapid identification and tracking of ED data on violence.

AVERT leverages existing ED data collection efforts deployed across state health departments through CDC's National ED Syndromic Surveillance program. The Division of Health Informatics and Surveillance (DHIS) in the Center for Surveillance, Epidemiology, and Laboratory Services (CSELS) in CDC operates the National Syndromic Surveillance Program (NSSP) BioSense Platform (OMB Control No. 0920-0824) through which state and local health departments share preliminary data such as the chief complaint of the patient seeking care at the ED.

CDC requests OMB approval for an estimated 30 annual burden hours. There are no costs to respondents other than their time to participate.

Estimated Annualized Burden Hours
Type of respondent | Form name | Number of respondents | Total number of responses per respondent | Average burden per response (hours) | Total annual burden (hours)
Participating health departments sharing case-level ED data with CDC through the NSSP BioSense (OMB Control No. 0920-0824) | ED form (ED violence data form) | 10 | 6 | 30/60 | 30
Total |  |  |  |  | 30

Jeffrey M. Zirger,
Lead, Information Collection Review Office, Office of Scientific Integrity, Office of Science, Centers for Disease Control and Prevention.

[FR Doc. 2023-06165 Filed 3-23-23; 8:45 am]

BILLING CODE 4163-18-P